DEPARTMENT OF JUSTICE

Notice of Lodging of Proposed Consent Decree Under the Clean Water Act and the Comprehensive Environmental Response, Compensation, and Liability Act

On February 11, 2013, the Department of Justice lodged a proposed consent decree with the United States District Court for the Middle District of Florida in the lawsuit entitled United States, State of Florida Department of Environmental Protection, and Herschel T. Vinyard, Jr. v. Mosaic Fertilizer, LLC, Civil Action No. 8:13-cv-386-T-26TGW.

The consent decree would resolve claims under the Clean Water Act and the Comprehensive Environmental Response, Compensation, and Liability Act, as well as Florida law, addressing natural resource damage resulting from a spill at a facility owned and operated by Mosaic Fertilizer, LLC (“Mosaic”). Mosaic owns and operates a phosphoric acid/fertilizer production facility in Riverview, Florida. Mosaic released hazardous acidic process water at and from the gypsum stack at its Riverview facility in 2004 over a two-day period. The release entered several swales on Mosaic's property, flowing into South Archie Creek Canal, and eventually to Hillsborough Bay and Tampa Bay. Federal and state natural resource trustees seek damages to compensate for and restore injured natural resources.

The consent decree would resolve the natural resource damages claims through restoration and reimbursement of assessment costs. The consent decree would require Mosaic to perform restoration projects enhancing current wetlands by removing invasive plant species, re-establishing historic tidal flows, and creating an oyster habitat, in addition to executing conservation easements for the protection of approximately 103.76 acres of habitat adjacent to Mosaic's release area. In addition to performing restoration projects, Mosaic would pay past and future assessment costs of the trustees and the Hillsborough County Environmental Protection Commission in connection with Mosaic's release.

The publication of this notice opens a period for public comment on the consent decree. Comments should be addressed to the Assistant Attorney General, Environment and Natural Resources Division, and should refer to United States v. Mosaic Fertilizer, LLC, D.J. Ref. No. 90-5-1-1-08961. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $41.50 (25 cents per page reproduction cost) payable to the United States Treasury.

Maureen M. Katz,
Assistant Section Chief, Environmental Enforcement Section, Environment and Natural Resources Division.

[FR Doc. 2013-03517 Filed 2-14-13; 8:45 am]

BILLING CODE 4410-15-P